DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed continuing collection of information. In accordance with the Paperwork Reduction Act of 1995 (44 U.S.C. 3506(c)(2)(A)), this notice seeks comments concerning information collections required for Fire Management Assistance Grant Program (FMAGP) eligibility determinations, grants management, and compliance with other Federal laws and regulations,

SUPPLEMENTARY INFORMATION: FMAGP was established under Section 420 of the Robert T. Stafford Disaster Relief and Emergency Assistance Act, 42, U.S.C. 5187, as amended by section 303 of the Disaster Mitigation Act of 2000, and implemented under 44 CFR Part 204. The program authorizes the President to provide assistance to any State or local government for the mitigation, management, and control of any fire on public or private forestland or grassland that threatens such destruction, as would constitute a major disaster. The information collection is necessary to facilitate the provision of assistance under the FMAGP, and is used by both State and FEMA Regional staff to facilitate the declaration request and grant administration of the program, as well as end of year internal reporting of overall declaration requests and estimated grant outlays.

Collection of Information

Title: Fire Management Assistance Grant Program.

Type of Information Collection: Revision of a currently approved collection.

OMB Number: 1660-0058.

Form Numbers: FEMA Form 90-58, Request for Fire Management Assistance Declaration, FEMA Form 90-133, Request for Fire Management Assistance Subgrant, and FEMA Form 90-32, Principal Advisor's Report.

Abstract: The collection of information is used by both State and FEMA Regional staff to facilitate the declaration request and grant administration processes of FMAGP, as well as end of year internal reporting of overall declaration requests and estimated grant outlays. The following information collections are used:

FEMA-State Agreement and Amendment. Federal assistance under Section 420 of the Stafford Act must be provided in accordance with the FEMA-State Agreement for FMAGP. The State Governor and the Regional Director must sign the Agreement, which contains the necessary terms and conditions consistent with the provisions of applicable laws, executive orders, and regulations, and specifies the type and extent of Federal assistance to be provided. The Agreement is an annual agreement applicable only for the calendar year in which it is signed.

Amendments to the FEMA-State Agreement may be executed throughout the calendar year as necessary. One amendment, Exhibit E, must be completed upon each approval of a fire management assistance declaration. Exhibit E confirms the name, incident period, location, and official designation number of the fire. Other amendments modifying the standing agreement may be added throughout the year to reflect changes in the program or signatory parties.

FEMA Form 90-133, Request for Fire Management Assistance Subgrant, is used by State, local and tribal governments to state their interest in applying for sub-grants under a approved fire management assistance grant. The form provides essential subgrantee contact information.

FEMA Form 90-58, Request for Fire Management Assistance Declaration, is used by the State to provide information in support of its request for a fire management assistance declaration. This form must be completed by the Governor or Governor's Authorized Representative (GAR) and forwarded to FEMA's Regional Director for review and transmittal to FEMA's National Office in Washington DC. Additional supporting information may be furnished by the State or requested by FEMA after the initial request has been received.

FEMA Form 90-32, Principal Advisor's Report, form is used to provide FEMA with technical assessment of a fire or fire complex for which the State is requesting a fire management assistance declaration. FEMA will review all information submitted in the State's request along with the Principal Advisor's assessment and Regional summary and will render a determination.

A State Administrative Plan for FMAGP must be developed by the State for the administration of fire management assistance grants. The plan must describe the procedures for the administration of FMAGP, designate the State agency to serve as Grantee, and ensure State compliance with the provisions of law and regulation applicable to fire management assistance grants. The plan must also identify staffing functions, the sources of staff to fill these functions, and the management and oversight responsibilities of each. The plan should describe the procedures to notify potential applicants of the availability of the program, assist FEMA in determining applicant eligibility, review PWs, process payment of subgrants, and audit and reconcile subgrants. The plan should also outline the processes to be used to facilitate close-out of the fire management assistance grant in accordance with 44 CFR, Part 13, Subpart D. The Regional Director must ensure that the State has an up-to-date Administrative Plan or approve a new plan prior to approval of the SF 424. The State may request the Regional Director to provide technical assistance in the preparation of the State Administrative Plan.

Training sessions are provided primarily for Regional staff and State officials who administer FMAGP for the purpose of instructing and updating attendees on the laws, regulations, policies, and process that govern the program, as well as to discuss any program issues.

Appeals. When a State's request for a fire management assistance declaration is denied, the Governor of a State or GAR may appeal the decision in writing pursuant to 44 CFR 204.26. The State may submit this one-time request for reconsideration in writing, with additional information, to the Director, Recovery Division. The appeal must be submitted within 30 days of the date of the letter denying the State's/Indian tribal government's request. A time extension of 30 days may be granted by the Director if the Governor or GAR submits a written request for a time extension within the 30-day period. Similarly, applicants may appeal any cost or eligibility determination under an approved declaration within 60 days after receipt of the notice of the action that is being appealed. The request must be submitted in writing to FEMA through the Grantee in accordance with the appeal procedures detailed in 44 CFR 204.60. Appeals usually consist of a letter briefly describing the reason for the appeal and any new supporting documentation the State or applicant submits to FEMA for review.

Duplication of Benefits. Applicants are required to notify FEMA of all benefits, actual or anticipated, received from other sources for the same loss for which they are applying to FEMA for assistance. Notification can be accomplished in a letter, accompanied by supporting documentation.

Affected Public: State, Local or Tribal Government and Federal Government.

Estimated Total Annual Burden Hours: 664.

OMB No. 1660-0058, Fire Management Assistance Grant Program Annual Burden Hours
Project/activity (survey, form(s), focus group, etc.) | Number of respondents (A) | Frequency of responses (B) | Burden hours per respondent (C) | Annual responses | Total annual burden hours
FEMA-State Agreement and Amendment | 12 | 4 | 5 minutes | 48 | 4
State Administrative Plan for Fire Management Assistance | 12 | 4 | 8 hours | 48 | 384
FEMA Form 90-32, Principal Advisor's Report | 12 | 4 | 20 minutes | 48 | 16
FEMA Form 90-58, Request for Fire Management Assistance Declaration | 12 | 4 | 1 hour | 48 | 48
FEMA Form 90-133, Request for Fire Management Assistance Subgrant (Locals Only) | 24 | 4 | 10 minutes | 96 | 16
Appeals (10 States and 10 Locals) | 20 | ¹ 1 | 1 hour | 20 | 20
Duplication of Benefits (10 State States and 10 Locals) | 20 | ¹ 1 | 1 hour | 20 | 20
Training Sessions | 12 | ¹ 1 | 13 hours | 12 | 156
Total Burden Estimate |  |  | 24.6 hours | 328 | 664
¹ Annually.

Estimated Cost: The information collection process for FMAGP is managed by one Program Manager, under a State's Department of Emergency Management or Department of Forestry. The annualized cost to respondents is estimated to be $16,163 annually. This is based on an hourly wage rate of $23.65 (Bureau of Labor Services) for a State's Program Manager, spending 23.35 burden hours to manage the application and grants process for the FMAGP. There is no capital start-up cost or capital maintenance costs

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Ann Piesen, Program Specialist, Recovery Division, (202) 646-3925, for additional information. You may contact Ms. Anderson for copies of the proposed collection of information at facsimile number (202) 646-3347 or e-mail address: FEMA-Information-Collections@dhs.gov.

George S. Trotter,
Acting Branch Chief, Information Resources Management Branch, Information Technology Services Division.

[FR Doc. 05-4194 Filed 3-3-05; 8:45 am]

BILLING CODE 9110-10-P